DEPARTMENT OF STATE

[Public Notice 5411]

Determination and Certification Under Section 40A of the Arms Export Control Act

Pursuant to section 40A of the Arms Export Control Act (22 U.S.C. 2781), and Executive Order 11958, as amended, I hereby determine and certify to the Congress that the following countries are not cooperating fully with United States antiterrorism efforts:

Cuba

Iran

North Korea

Syria

Venezuela

I hereby notify that the decision not to include Libya on the list of countries not cooperating fully with U.S. antiterrorism efforts comes as the result of a comprehensive review of Libya's record of support for terrorism over the last three years. Libya has taken significant and meaningful steps during this time to repudiate its past support for terrorism and to cooperate with the United States in our antiterrorism efforts.

This determination and certification shall be transmitted to the Congress and published in the Federal Register.

Dated: May 8, 2006.
Condoleezza Rice,
Secretary of State, Department of State.

[FR Doc. 06-4656 Filed 5-17-06; 8:45 am]

BILLING CODE 4710-10-P